DEPARTMENT OF ENERGY

Federal Energy Regulatory Commission

[Docket No. CP12-23-000]

Inergy Pipeline East, LLC; Notice of Application for a Section 284.224 Blanket Certificate

Take notice that on December 5, 2011, Inergy Pipeline East, LLC (IPE), Two Brush Creek Boulevard, Kansas City, Missouri 64112, filed with the Federal Energy Regulatory Commission an application under Section 7 of the Natural Gas Act (NGA) and Section 284.224 of the Commission's Regulations for an order issuing a blanket certificate of public convenience and necessity authorizing IPE to transport natural gas in interstate commerce in accordance with Subparts C, D and G of Part 284 of the Commission's Regulations. IPE further requests Commission approval of its Statement of Operating Conditions governing the firm and interruptible interstate transportation services IPE proposes to provide and of IPE's cost-based rates for such services pursuant to 18 CFR 284.123(b)(2). Questions concerning this Application may be directed to James F. Bowe, Jr., Dewey & LeBoeuf LLP, 1101 New York Avenue, NW., Washington, DC 20005, (202) 346-8000 (phone) (202) 346-8102 (fax), jbowe@dl.com.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 7 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on January 4, 2012.

Dated: December 14, 2011.
Kimberly D. Bose,
Secretary.

[FR Doc. 2011-32512 Filed 12-19-11; 8:45 am]

BILLING CODE 6717-01-P